FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16230N.

Name: A-P-A World Transport Corp.

Address: 545 Dowd Avenue, Elizabeth, NJ 07201

Date Revoked: February 18, 2003.

Reason: Failed to maintain a valid bond.

License Number: 16357N.

Name : Ace Shipping Corp.

Address: 155 Armstrong Road, Des Plaines, IL 60018

Date Revoked: February 20, 2003.

Reason: Failed to maintain a valid bond.

License Number: 17010F.

Name: Alden International Inc.

Address: 809 Washington, Traverse City, MI 49686

Date Revoked: March 8, 2003.

Reason: Failed to maintain a valid bond.

License Number: 13582N.

Name: Argosy Transport, Inc.

Address: 5572 Lutford Circle, Westminster, CA 92683

Date Revoked: March 5, 2003.

Reason: Failed to maintain a valid bond.

License Number: 4028F.

Name: BNX Shipping Inc.

Address: 2029 E. Cashdan Street, Rancho Dominguez, CA 90220

Date Revoked: February 24, 2003.

Reason: Failed to maintain a valid bond.

License Number: 16660N.

Name: C.F.L. Freight Service, Inc.

Address: 2075 S. Atlantic Blvd., #G, Monterey Park, CA 91754

Date Revoked: February 14, 2003.

Reason: Failed to maintain a valid bond.

License Number: 14519N.

Name: Classic Cargo International, Inc.

Address: 2130-C Ace Worldwide Lane, Cudahy, WI 53110

Date Revoked: February 23, 2003.

Reason: Failed to maintain a valid bond.

License Number: 2764NF.

Name: Daniel H. Cheung dba Ace Container Line dba D. Cheung International

Address: 436 N. Canal Street, Unit 14, P.O. Box 280621, San Francisco, CA 94080

Date Revoked: January 30, 2003.

Reason: Failed to maintain valid bonds.

License Number: 14169N.

Name: Expedited Transportation Services, Inc.

Address: 2169 West Park Court, Suite O, Stone Mountain, GA 30087

Date Revoked: February 17, 2003.

Reason: Failed to maintain a valid bond.

License Number: 17230NF.

Name: FEI Holdings dba Vision Freight Lines dba Vision Logistics Group

Address: 2813 Parkview Terrace, Fairfield, CA 94533

Date Revoked: February 11, 2003.

Reason: Failed to maintain valid bonds.

License Number: 3529F.

Name: Horizon Forwarders, Inc.

Address: One Edgewater Plaza, Suite 214, Staten Island, NY 10305

Date Revoked: January 23, 2003.

Reason: Failed to maintain a valid bond.

License Number: 3252NF.

Name: Intermar Steamship Corporation

Address: 80 Business Park Drive, Suite 104, Armonk, NY 10504

Date Revoked: February 17, 2003.

Reason: Failed to maintain valid bonds.

License Number: 11950N.

Name: Intermodal Logistics Systems, Inc.

Address: 19401 S. Main Street, Unit 302, Gardena, CA 90248

Date Revoked: February 14, 2003.

Reason: Failed to maintain a valid bond.

License Number: 16574F.

Name: International Forwarders, Inc.

Address: 501-C Industrial Street, Lake Worth, FL 33461

Date Revoked: March 5, 2003.

Reason: Failed to maintain a valid bond.

License Number: 784F.

Name: James A. Green, Jr. & Co.

Address: 1311 Minnesota Avenue, Kansas City, KS 66102

Date Revoked: February 27, 2003.

Reason: Failed to maintain a valid bond.

License Number: 17140N.

Name: Meridian Containers (USA) Ltd.

Address: 1345 Woodlane Road, Eastampton, NJ 08060

Date Revoked: February 28, 2003.

Reason: Failed to maintain a valid bond.

License Number: 2037N.

Name: Miller & Thompson Forwarding, Inc.

Address: 1126 So. 70th Street, Suite 215-B, Milwaukee, WI 53214

Date Revoked: February 19, 2003.

Reason: Surrendered license voluntarily.

License Number: 2651F.

Name: Pioneer International Forwarding Co., Inc.

Address: 687 Commercial Street, 2nd Floor, San Francisco, CA 94111

Date Revoked: March 1, 2003.

Reason: Failed to maintain a valid bond.

License Number: 16450N.

Name: Seaspeed Transport LLC

Address: 6826 Somerset Blvd., #7, Paramount, CA 90723

Date Revoked: February 20, 2003.

Reason: Failed to maintain a valid bond.

License Number: 4185N.

Name: Southern Winds International

Address: 1780 Wipple Road, Suite 206, Union City, CA 96587

Date Revoked: February 26, 2003.

Reason: Failed to maintain a valid bond.

License Number: 17631N.

Name: Sunmar Shipping, Inc.

Address: 2615 4th Avenue, Suite 700, Seattle, WA 98121

Date Revoked: February 27, 2003.

Reason: Failed to maintain a valid bond.

License Number: 3863NF.

Name: Tera Trading Group, Inc. dba T.T.G. International Freight Forwarders

Address: 1850 NW 82nd Avenue, Miami, FL 33126

Date Revoked: February 7, 2003.

Reason: Failed to maintain valid bonds.

License Number: 2287NF.

Name: Total Cargo International, Inc.

Address: 7500 NW 25th Street, Suite #257, Miami, FL 33122

Date Revoked: March 5, 2003.

Reason: Failed to maintain valid bonds.

License Number: 8473N.

Name: Total Cargo dba Polar Bear Container Line

Address: 132 S. Cloverdale Blvd., Cloverdale, CA 95425

Date Revoked: February 26, 2003.

Reason: Failed to maintain a valid bond.

License Number: 2681F.

Name: Trans-Border Customs Services, Inc.

Address: One Trans-Border Drive, P.O. Box 800, Champlain, NY 12919

Date Revoked: July 1, 2002.

Reason: Surrendered license voluntarily.

License Number: 17768F.

Name: United Shipping Services, Inc.

Address: 2121 W. Mission Road, #307, Alhambra, CA 91803

Date Revoked: March 1, 2003.

Reason: Surrendered license voluntarily.

License Number: 2813N.

Name: Vital International Freight Services, Inc.

Address: 5200 W. Century Blvd., Suite 290, Los Angeles, CA 90045

Date Revoked: March 1, 2003.

Reason: Failed to maintain a valid bond.

License Number: 4536F.

Name: Worldwide International, Inc.

Address: 5900 Roche Drive, Suite No. LL-20, Columbus, OH 43229

Date Revoked: November 9, 2002.

Reason: Failed to maintain a valid bond.

License Number: 4410F.

Name: Zeal Cargo Corporation

Address: 8525 NW 29th Street, Miami, FL 33122

Date Revoked: February 16, 2003.

Reason: Failed to maintain a valid bond.

Sandra L. Kusumoto,
Director, Bureau of Consumer Complaints and Licensing.

[FR Doc. 03-7288 Filed 3-26-03; 8:45 am]

BILLING CODE 6730-01-P